DEPARTMENT OF ENERGY

Federal Energy Regulatory Commission

[ Project No. 13531-000]

Hydrodynamics, Inc.; Notice Denying Late Intervention

On June 24, 2010, Commission staff issued a three-year preliminary permit to Hydrodynamics, Inc. (Hydrodynamics) to study the feasibility of its proposed East Rosebud Hydroelectric Project No. 13531-000, to be located on East Rosebud Creek in Carbon County, Montana.¹ On January 17, 2013, Friends of East Rosebud, Inc. (Friends of East Rosebud) filed a late motion to intervene in the proceeding.

¹ Hydrodynamics, Inc., 131 FERC ¶ 62,260 (2010). The permit was issued for a term of 36 months. The permit will therefore expire on May 31, 2013, or on the date Hydrodynamics files an acceptable development application, whichever occurs first.

Hydrodynamics' permit was issued and became administratively final two years and seven months ago, before Friends of East Rosebud submitted its motion to intervene.² Hydrodynamics has not submitted a development application for its proposed project. Therefore, there is no open proceeding in which to intervene, and Friends of East Rosebud's motion to intervene must be dismissed.³

² A Commission order granting a preliminary permit is final on the date it is issued unless a party to the proceeding petitions for rehearing within 30 days of issuance. Since no one filed a timely rehearing petition, Hydrodynamic's preliminary permit proceeding was closed and the preliminary permit became final and unreviewable.

³ Should Hydrodynamics file a development application for its proposed project, notice of the application will be published, and interested entities, including the Friends of East Rosebud will have the opportunity to intervene and present its views concerning the project. To the extent that the Friends of East Rosebud seeks to be kept informed of any new activity in the docket, it may register and eSubscribe to the docket at https://ferconline.ferc.gov/eSubscription.aspx.

This notice constitutes final agency action. Requests for rehearing by the Commission of this dismissal must be filed within 30 days of the date of issuance of this notice pursuant to section 313(a) of the Federal Power Act and section 385.713 of the Commission's regulations, 18 CFR 385.713 (2012).

Dated: February 6, 2013.
Kimberly D. Bose,
Secretary.

[FR Doc. 2013-03151 Filed 2-11-13; 8:45 am]

BILLING CODE 6717-01-P